DEPARTMENT OF DEFENSE

Office of the Secretary

Notice of Removal of Designated Chinese Military Companies

AGENCY: Office of the Under Secretary of Defense (Acquisition and Sustainment), Department of Defense.

ACTION: Notice of removal of a company from the 2023 Section 1260H List of Chinese Military Companies Operating in the United States.

SUMMARY: The Deputy Secretary of Defense has decided to delist the entity listed in the SUPPLEMENTARY INFORMATION section of this notice from the list of “Chinese military companies” in accordance with the William M. (Mac) Thornberry National Defense Authorization Act for Fiscal Year 2021, without prejudice to relisting the company on additional or supplementary grounds.

FOR FURTHER INFORMATION CONTACT: Mr. Devante Brown (GIES), (703) 695-8545.

SUPPLEMENTARY INFORMATION: Section 1260H of the William M. (Mac) Thornberry National Defense Authorization Act for Fiscal Year 2021 (Pub. L. 116-283) requires the Secretary of Defense to list “Chinese military companies” that meet the statutory criteria annually until December 31, 2030. Paragraph (b)(2) of this section requires the Secretary of Defense to publish the unclassified portion of such list in the Federal Register.

The Deputy Secretary of Defense has decided to delist the following entity from the list of “Chinese military companies” in accordance with section 1260H, without prejudice to relisting the entity on additional or supplementary grounds:

Hesai Technology Co., Ltd. (Hesai)

Dated: October 24, 2024.
Aaron T. Siegel,
Alternate OSD Federal Register Liaison Officer, Department of Defense.

[FR Doc. 2024-25168 Filed 10-28-24; 8:45 am]

BILLING CODE 6001-FR-P